DEPARTMENT OF COMMERCE

National Oceanic and Atmospheric Administration

[RTID 0648-XD530]

Fisheries Off West Coast States; Pacific Coast Groundfish Fishery; Exempted Fishing Permit Application

AGENCY: National Marine Fisheries Service (NMFS), National Oceanic and Atmospheric Administration (NOAA), Commerce.

ACTION: Notice; request for comments.

SUMMARY: The Regional Administrator, West Coast Region, NMFS, announces receipt of an exempted fishing permit (EFP) application, and is considering issuance of an EFP that seeks exemption from the requirements at requiring vessel owners and operators to retain sablefish, rex sole, Pacific sanddab and California halibut when on a declared optimized retention bottom trawl or non-whiting midwater trawl trip. At this time, NMFS is considering allowing participants in the EFP to add sablefish and rex sole to their Vessel Monitoring Plans' (VMP) allowable discard list. NMFS does not expect to add the other two species to this EFP because Pacific sanddab is already listed as an allowable discard, thus no exemption is needed, and NMFS intends to address California halibut discard rules through a future regulatory change rather than an EFP. NMFS requests public comment on the application.

DATES: Comments must be received by December 1, 2023.

ADDRESSES: You may submit comments on this document, identified by NOAA-NMFS-2023-0143 by the following method:

• Electronic Submissions: Submit all public comments via the Federal e-Rulemaking Portal. Go to https://www.regulations.gov and enter NOAA-NMFS-2023-0143 in the Search box. Click on the “Comment” icon, complete the required fields, and enter or attach your comments. The EFP application will be available under Supporting and Related Materials through the same link.

• Instructions: Comments must be submitted by the above method to ensure that the comments are received, documented, and considered by NMFS. Comments sent by any other method or received after the end of the comment period, may not be considered. All comments received are a part of the public record and will generally be posted for public viewing on https://www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Matt Dunlap, West Coast Region, NMFS, (206) 526-6119, matthew.dunlap@noaa.gov.

SUPPLEMENTARY INFORMATION: This action is authorized by the Pacific Coast Groundfish Fishery Management Plan and the regulations implementing the Magnuson-Stevens Fishery Conservation and Management Act at 50 CFR 600.745, which state that EFPs may be used to authorize fishing activities that would otherwise be prohibited.

On June 28, 2019 (84 FR 31146), at the recommendation of the Pacific Fishery Management Council (Council), NMFS published a final rule that authorized the use of electronic monitoring (EM) in place of human observers to meet requirements for 100-percent at-sea monitoring for catcher vessels in the groundfish trawl catch share fishery (Trawl Rationalization Program). EM video systems are used to record catch and discards by the vessel crew while at sea. Vessel operators are responsible for recording catch and discards in a logbook, which is then used to debit individual fishing quota (IFQ) accounts and cooperative allocations. The Council recommended, and NMFS implemented, a delay to the start of the regulatory program (86 FR 5525, October 6, 2021) until January 2024.

The EFP applicant, California Groundfish Collective, seeks to add sablefish, rex sole, Pacific sanddab and California halibut to the allowable discard list for EFP participants for 2024, just as these species have been allowable discards in the 2023 EM EFP. Extending the allowable discarding of sablefish and rex sole into 2024 via an EFP will provide data that could be used by the Council and NMFS to make informed decisions on refining EM discard regulations. NMFS does not expect to include Pacific sanddab in the EFP because that species is already an allowable discard in the regulations. NMFS expects to address California halibut discard rules via a future regulatory change, not an EFP. The EFP application is for approximately 20 trawl gear vessels that use EM. Additional EFP participants that join EM under the regulatory program may apply at a later date.

If approved, NMFS would issue the permits for the EFP project to the applicant and vessel owners or designated representatives as the “EFP holder.” NMFS intends to use an adaptive management approach in which NMFS may revise requirements and protocols to improve the program without issuing another Federal Register notice, provided that the modifications fall within the scope of the original EFP. NMFS would also accept additional applications to participate in the same, or similar, exempted fishing activity.

The Regional Administrator has made a preliminary determination that the application described above contains all of the required information and, at least in part, constitutes an activity appropriate for further consideration. After publication of this document in the Federal Register, and review and consideration of any public comments received, NMFS may approve and issue permits for the EFP project. NMFS may approve the application in its entirety or may make any alterations needed to achieve the goals of the EFP.

Authority: 16 U.S.C. 1801 et seq.; 50 CFR 600.745. This action is authorized by Pacific Coast Groundfish Fishery Management Plan and the regulations implementing the Magnuson-Stevens Fishery Conservation and Management Act at 50 CFR 600.745, which states that EFPs may be used to authorize fishing activities that would otherwise be prohibited.

Dated: November 13, 2023.
Kelly Denit,
Director, Office of Sustainable Fisheries, National Marine Fisheries Service.

[FR Doc. 2023-25319 Filed 11-15-23; 8:45 am]

BILLING CODE 3510-22-P